DEPARTMENT OF COMMERCE

Foreign-Trade Zones Board

[B-4-2014]

Foreign-Trade Zone (FTZ) 221—Mesa, Arizona; Notification of Proposed Production Activity; Apple Inc./GT Advanced Technologies Inc. (Components for Consumer Electronics), Mesa, Arizona

Apple Inc./GT Advanced Technologies Inc. (Apple/GT) submitted a notification of proposed production activity to the FTZ Board for its facility in Mesa, Arizona. The notification conforming to the requirements of the regulations of the FTZ Board (15 CFR 400.22) was received on January 23, 2014.

A separate application for subzone designation at the Apple/GT facility is being processed under Section 400.31 of the Board's regulations (Doc. S-5-2014). Apple/GT requested authority to manufacture intermediate components for consumer electronics for export. Pursuant to 15 CFR 400.14(b), FTZ activity would be limited to the specific foreign-status materials and components and specific finished products described in the submitted notification (as described below) and subsequently authorized by the FTZ Board.

Production under FTZ procedures could exempt Apple/GT from customs duty payments on the foreign status components listed below used in the export production of sapphire material (duty rate 6.4%). Customs duties also could possibly be deferred or reduced on foreign status production equipment.

The components and materials sourced from abroad include white alumina block, forged metal industrial heat-treating equipment and diamond cutting wire (duty rate ranges from duty-free to 1.3%).

Public comment is invited from interested parties. Submissions shall be addressed to the Board's Executive Secretary at the address below. The closing period for their receipt is March 10, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: January 23, 2014.
Andrew McGilvray,
Executive Secretary.

[FR Doc. 2014-01727 Filed 1-28-14; 8:45 am]

BILLING CODE 3510-DS-P